ENVIRONMENTAL PROTECTION AGENCY

[ER-FRL-9025-4]

Environmental Impact Statements; Notice of Availability

Responsible Agency: Office of Federal Activities, General Information (202) 564-7146 or http://www2.epa.gov/compliance/nepa/.

Weekly receipt of Environmental Impact Statements (EISs).

Filed 01/25/2016 Through 01/29/2016.

Pursuant to 40 CFR 1506.9.

Notice

Section 309(a) of the Clean Air Act requires that EPA make public its comments on EISs issued by other Federal agencies. EPA's comment letters on EISs are available at: http://cdxnodengn.epa.gov/cdx-nepa-public/action/eis/search.

EIS No. 20160022, Draft, USFS, OR, Magone Project, Comment Period Ends: 03/21/2016, Contact: Sasha Fertig 541-575-3061

EIS No. 20160023, Draft, FHWA, UT, I-80 and State Street Interchange, Comment Period Ends: 03/21/2016, Contact: Bryan Dillon 801-955-3517

EIS No. 20160024, Draft, USA, AZ, Proposed Tailings Storage Facility, Ray Mine, Comment Period Ends: 03/21/ 2016, Contact: Michael Langley 602-230-6953

EIS No. 20160025, Final, USFS, MT, North and West Big Hole Allotment Management Plans, Review Period Ends: 03/07/2016, Contact: Jessica Dhaemers 406-689-3243

EIS No. 20160026, Draft, USFS, CO, Arapahoe Basin Ski Area Projects, Comment Period Ends: 03/21/2016, Contact: Matthew Ehrman 970-945-3212

EIS No. 20160027, Final, USFS, MT, Blackfoot Travel Plan (Non-Winter), Review Period Ends: 03/07/2016, Contact: Erin Fryer 406-495-3863

Dated: February 2, 2016.
Dawn Roberts,
Management Analyst, NEPA Compliance Division, Office of Federal Activities.

[FR Doc. 2016-02270 Filed 2-4-16; 8:45 am]

BILLING CODE 6560-50-P